DEPARTMENT OF THE INTERIOR

National Park Service

[N6562; NPS-WASO-NAGPRA-NPS0041186; PPWOCRADN0-PCU00RP14.R50000]

Notice of Inventory Completion: U.S. Department of the Interior, Bureau of Indian Affairs, Washington, DC, and Museum of Northern Arizona, Flagstaff, AZ

AGENCY: National Park Service, Interior.

ACTION: Notice.

SUMMARY: In accordance with the Native American Graves Protection and Repatriation Act (NAGPRA), the U.S. Department of the Interior, Bureau of Indian Affairs and the Museum of Northern Arizona have completed an inventory of associated funerary objects and have determined that there is a cultural affiliation between the associated funerary objects and Indian Tribes or Native Hawaiian organizations in this notice.

DATES: Repatriation of the associated funerary objects in this notice may occur on or after December 17, 2025.

ADDRESSES: Send written requests for repatriation of the associated funerary objects in this notice to Tamara Billie, U.S. Department of the Interior, Bureau of Indian Affairs, Branch of Cultural Resources Management, 1001 Indian School Road NW, Mailbox 44, Albuquerque, NM 87104, email tamara.billie@bia.gov.

SUPPLEMENTARY INFORMATION: This notice is published as part of the National Park Service's administrative responsibilities under NAGPRA. The determinations in this notice are the sole responsibility of the Bureau of Indian Affairs, and additional information on the determinations in this notice, including the results of consultation, can be found in its inventory or related records. The National Park Service is not responsible for the determinations in this notice.

Abstract of Information Available

The four associated funerary objects identified for this Notice are one basalt scraper, one chert biface, and two ceramic sherds from site NA5998, which is located on the Hualapai Indian Reservation, near Frazier Wells, in Coconino County, AZ. Following further consultation, this Notice serves to update and correct the number of associated funerary objects reported in the previously published Notice for site NA5998. The funerary objects are associated with the Cohonina archeological complex and are dated between A.D. 900 and 1175. None of the associated funerary objects have been treated with potentially hazardous substances.

Cultural Affiliation

Based on the information available and the results of consultation, cultural affiliation is clearly identified by the information available about the associated funerary objects described in this notice.

Determinations

The Bureau of Indian Affairs has determined that:

• The four objects described in this notice are reasonably believed to have been placed intentionally with or near individual human remains at the time of death or later as part of the death rite or ceremony.

• There is a connection between the associated funerary objects described in this notice and the Hualapai Indian Tribe of the Hualapai Indian Reservation, Arizona.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after December 17, 2025. If competing requests for repatriation are received, the Bureau of Indian Affairs must determine the most appropriate requestor prior to repatriation. Requests for joint repatriation of the associated funerary objects are considered a single request and not competing requests. The Bureau of Indian Affairs is responsible for sending a copy of this notice to the Indian Tribes and Native Hawaiian organizations identified in this notice and any other consulting parties.

Authority: Native American Graves Protection and Repatriation Act, 25 U.S.C. 3003, and the implementing regulations, 43 CFR 10.10.

Dated: September 18, 2025.
Melanie O'Brien,
Manager, National NAGPRA Program.

[FR Doc. 2025-19958 Filed 11-14-25; 8:45 am]

BILLING CODE 4312-52-P